DEPARTMENT OF THE INTERIOR

National Park Service

[NPS-WASO-CONC-34120; PPWOBSADC0, PPMVSCS1Y.Y00000]

Notice of Intent To Extend and Continue Concession Contracts and Award Temporary Concession Contracts

AGENCY: National Park Service, Interior.

ACTION: Public notice.

SUMMARY: The National Park Service gives public notice that, pursuant to the terms of the concession contracts identified in the tables below, as applicable, and in accordance with NPS regulations, it intends to: extend each concession contract listed in table 1 below until the date shown in the “Extension Date” column or until the effective date of a new contract, whichever comes first; continue each concession contract listed in table 2 for a period not to exceed one year beginning on January 1, 2023; award the temporary concession contracts listed in table 3 below.

DATES: The National Park Service intends that the concession contract extensions, continuations, temporary concession contracts will be effective on the dates shown in the tables below, as applicable.

FOR FURTHER INFORMATION CONTACT: Kurt Rausch, Program Chief, Commercial Services Program, National Park Service, 1849 C Street NW, Mail Stop 2410, Washington, DC 20240; Telephone: 202-513-7156.

SUPPLEMENTARY INFORMATION: The concession contracts listed in table 1 below will expire by their terms on or before October 31, 2023. Under 36 CFR 51.23 the National Park Service proposes to extend each contract until the date shown in the “Extension Expiration Date” column or until the effective date of a new contract, whichever comes first. The National Park Service has determined that the proposed extensions are necessary to avoid an interruption of visitor services and has taken all reasonable and appropriate steps to consider alternatives to avoid such an interruption. The extension of the existing contracts does not confer or affect any rights with respect to the award of new contracts.

The concession contracts listed in table 2 below have been extended for the maximum time allowable under 36 CFR 51.23. Under the provisions of the existing contracts and pending the issuance of prospectuses and the completion of the public solicitation process to award new concession contracts, the National Park Service intends to continue the existing contracts for a period not to exceed one year beginning on January 1, 2023. Except for their expiration dates, the terms and conditions of the existing contracts will remain unchanged. The continuation of the existing contracts does not confer or affect any rights with respect to the award of new concession contracts.

The National Park Service proposes awarding temporary concession contracts, in accordance with 36 CFR 51.24(a), to provide the visitor services currently provided under the contracts listed in table 3 below. Each temporary contract will have a term not to exceed three years, and each will be awarded to a qualified person. The National Park Service anticipates that the temporary contracts will be effective on the dates shown in the “Effective Date” column. This notice is not a request for proposals.

The publication of this notice reflects the intent of the National Park Service but does not bind the National Park Service to extend, continue, or award any of the contracts listed below.

Table 1—Concession Contracts Extended Until the Date Shown or Until the Effective Date of a New Contract, Whichever Comes First
Park unit | CONCID | Concessioner | Extension effective date | Extension expiration date
Big South Fork NR&RA | BISO003-13 | Bobby Gene and Gretta York | 1/16/2023 | 1/15/2024
Blue Ridge Parkway | BLRI002-13 | Cradle of Forestry in America Interpretive Association | 5/22/2023 | 5/21/2024
Blue Ridge Parkway | BLRI008-13 | Southern Highland Handicraft Guild, Inc | 2/1/2023 | 1/31/2024
Blue Ridge Parkway | BLRI010-13 | Price Lake Boat Rentals, Inc | 4/1/2023 | 3/31/2024
Bryce Canyon NP | BRCA001-13 | Bryce Canyon Natural History Association | 1/1/2023 | 12/31/2023
Buffalo NR | BUFF002-13 | Lost Valley Canoe and Lodging, Inc | 1/1/2023 | 12/31/2023
Buffalo NR | BUFF004-13 | Ozark Bison, LLC | 1/1/2023 | 12/31/2023
Buffalo NR | BUFF005-13 | Silver Hill Canoe, Inc | 1/1/2023 | 12/31/2023
Buffalo NR | BUFF009-13 | Buffalo Outdoor Center, Inc | 1/1/2023 | 12/31/2023
Buffalo NR | BUFF010-13 | Buffalo River Outfitters, Inc | 1/1/2023 | 12/31/2023
Buffalo NR | BUFF011-13 | Charles Raulston | 1/1/2023 | 12/31/2023
Buffalo NR | BUFF014-13 | Christopher Crockett | 1/1/2023 | 12/31/2023
Buffalo NR | BUFF015-13 | Buffalo Camping & Canoeing, Inc | 1/1/2023 | 12/31/2023
Buffalo NR | BUFF016-13 | Buffalo River Float Service, LLC | 1/1/2023 | 12/31/2023
Buffalo NR | BUFF018-13 | Buffalo River Canoes, Inc | 1/1/2023 | 12/31/2023
Buffalo NR | BUFF019-13 | Dirst Canoe Rental | 1/1/2023 | 12/31/2023
Buffalo NR | BUFF022-13 | Bill Scruggs, Inc | 1/1/2023 | 12/31/2023
Canyonlands NP | CANY008-13 | Canyonlands Natural History Association | 1/1/2023 | 12/31/2023
Colonial NHP | COLO001-13 | Yorktown Arts Foundation | 6/15/2023 | 6/14/2024
Crater Lake NP | CRLA003-12 | The Shuttle, Inc | 5/1/2023 | 4/30/2024
Denali NP&P | DENA013-20 | Denali National Park Wilderness Centers, Ltd | 1/1/2023 | 12/31/2023
Death Valley NP | DEVA002-11 | NEG282, LLC | 1/13/2023 | 1/12/2024
Gateway NRA | GATE015-03 | ARKLOW-FBF, LLC | 4/15/2023 | 4/14/2024
Glacier Bay NP&P | GLBA008-18 | Haines Rafting Company, LLC | 1/1/2023 | 12/31/2024
Glacier Bay NP&P | GLBA011-18 | Chilkat Guides, Ltd | 1/1/2023 | 12/31/2024
Glacier Bay NP&P | GLBA012-18 | Colorado River and Trail Expeditions, Inc | 1/1/2023 | 12/31/2024
Glacier Bay NP&P | GLBA013-18 | Momentum Alaska, Inc | 1/1/2023 | 12/31/2024
Glacier Bay NP&P | GLBA014-18 | Mountain Travel | 1/1/2023 | 12/31/2024
Glacier Bay NP&P | GLBA017-18 | Wilderness River Outfitters & Trails Expeditions, Inc | 1/1/2023 | 12/31/2024
Glacier Bay NP&P | GLBA038-16 | Lindblad Expeditions, Inc | 1/1/2023 | 12/31/2023
Glacier Bay NP&P | GLBA041-16 | AM Owner Group, Inc | 1/1/2023 | 12/31/2023
Glacier Bay NP&P | GLBA042-16 | InnerSea Discoveries Alaska, Inc | 1/1/2023 | 12/31/2023
Glacier Bay NP&P | GLBA043-16 | American Cruise Lines, Inc | 1/1/2023 | 12/31/2023
Glen Canyon NRA | GLCA007-03 | Antelope Point Holdings, LLC | 1/1/2023 | 12/31/2023
Grand Canyon NP | GRCA034-12 | Bright Angel Bicycles, LLC | 3/1/2023 | 2/28/2024
Grand Teton NP | GRTE005-13 | The American Alpine Club | 1/1/2023 | 12/31/2023
Grand Teton NP | GRTE025-13 | Powder Hounds, Inc | 11/1/2023 | 10/31/2024
Various Areas | IMFA001-13 | Western National Parks Association | 1/1/2023 | 12/31/2023
Ozark NSR | OZAR011-12 | Current River Canoe Rental, LLC | 1/1/2023 | 12/31/2023
Ozark NSR | OZAR016-12 | Carr's Grocery and Canoe Rental, LLC | 1/1/2023 | 12/31/2023
Pictured Rocks NL | PIRO001-10 | Pictured Rocks Cruises, Inc | 1/1/2023 | 4/30/2023
Point Reyes NS | PORE003-11 | American Youth Hostels, Inc | 10/17/2023 | 10/16/2024
Ross Lake NRA | ROLA003-13 | WF Goodfellow Adventures, Inc | 1/1/2023 | 12/31/2023
Rocky Mountain NP | ROMO004-13 | Silver Peaks Enterprises, Inc | 1/1/2023 | 12/31/2023
Rocky Mountain NP | ROMO009-12 | Streamside Properties, LLC | 1/1/2023 | 12/31/2023
Rocky Mountain NP | ROMO011-12 | YMCA of the Rockies | 1/1/2023 | 12/31/2023
Rocky Mountain NP | ROMO012-12 | Dao House, LLC | 1/1/2023 | 12/31/2023
Rocky Mountain NP | ROMO013-12 | Wind River Ministries, Inc | 1/1/2023 | 12/31/2023
Rocky Mountain NP | ROMO016-12 | SK Horses, Ltd | 1/1/2023 | 12/31/2023
Rocky Mountain NP | ROMO017-12 | Sombrero Ranches, Inc | 1/1/2023 | 12/31/2023
Rocky Mountain NP | ROMO018-12 | Winding River Resort, Inc | 1/1/2023 | 12/31/2023
Rocky Mountain NP | ROMO019-12 | Cheley Colorado Camps, Inc | 1/1/2023 | 12/31/2023
Rocky Mountain NP | ROMO022-12 | Girl Scouts of Colorado | 1/1/2023 | 12/31/2023
Rocky Mountain NP | ROMO028-12 | SK Horses, Ltd | 1/1/2023 | 12/31/2023
Rocky Mountain NP | ROMO029-12 | SK Horses, Ltd | 1/1/2023 | 12/31/2023
Voyageurs NP | VOYA002-11 | Oveson Kab-Con, Inc | 1/1/2023 | 12/31/2023
Wrangell-St. Elias NP&P | WRST018-13 | St. Elias Alpine Guides, LLC | 1/1/2023 | 12/31/2024

Table 2—Concession Contracts Continued for a Period Not to Exceed One Year Beginning on January 1, 2023
Park unit | CONCID | Concessioner
Glen Canyon National Recreation Area | GLCA002-88 | ARAMARK Sports and Entertainment Services, Inc.
Glen Canyon National Recreation Area | GLCA003-69 | ARAMARK Sports and Entertainment Services, Inc.
Lake Mead National Recreation Area | LAKE001-73 | LMNRA Guest Services, LLC.
Lake Mead National Recreation Area | LAKE002-82 | LMNRA Guest Services, LLC.
Lake Mead National Recreation Area | LAKE005-97 | LMNRA Guest Services, LLC.
Lake Mead National Recreation Area | LAKE006-74 | Las Vegas Boat Harbor, Inc.
Lake Mead National Recreation Area | LAKE009-88 | LMNRA Guest Services, LLC.
Interior Region 1—National Capital Area | NACC003-86 | Guest Services, Inc.

Table 3—Temporary Concession Contracts
Park unit | CONCID | Services | Effective date
Badlands NP | BADL001-09 | Lodging, Campgrounds, Retail, Food and Beverage | 11/1/2022
Big Bend NP | BIBE002-21 | Lodging, Food and Beverage, Retail, Fuel Stations, Other | 7/1/2023
Bryce Canyon NP | BRCA003-10 | Lodging, Food and Beverage, Retail, Tours, Other | 1/1/2023
Fire Island NS | FIIS003-09 | Water Transportation, Retail | 11/1/2022
Olympic NP | OLYM003-10 | Lodging, Food and Beverage, Retail, Boat Rentals | 2/1/2023
Pictured Rocks NL | PIRO001-10 | Boat Tours, Food and Beverage | 5/1/2023

Justin Unger,
Associate Director, Business Services.

[FR Doc. 2022-22760 Filed 10-19-22; 8:45 am]

BILLING CODE 4312-53-P